NEIGHBORHOOD REINVESTMENT CORPORATION

Sunshine Act; dba NeighborWorks® America; Special Board of Directors Meeting

Time & Date: 2 p.m.-4 p.m., Thursday, May 25, 2006.

Place: Neighborhood Reinvestment Corporation, dba NeighborWorks® America, 1325 G Street, NW., Suite 800, Boardroom, Washington, DC 20005.

STATUS: Open.

CONTACT PERSON FOR MORE INFORMATION: Jeffrey T. Bryson, General Counsel/Secretary, 202-220-2372; jbryson@nw.org.

AGENDA:

I. Call to Order: Chairman Curry.

II. Discussion of Strategic Plan: Ken Wade.

III. Adjournment: Chairman Curry.

Jeffrey T. Bryson,
General Counsel/Secretary.

[FR Doc. 06-4862 Filed 5-22-06; 1:19 pm]

BILLING CODE 7570-01-M